DEPARTMENT OF COMMERCE

Foreign-Trade Zones Board

[B-2-2026]

Foreign-Trade Zone (FTZ) 72, Notification of Proposed Production Activity; Iwis Drive Systems, LLC; (Customized Parts and Drive System Components); Whitestown, Indiana

Iwis drive systems, LLC submitted a notification of proposed production activity to the FTZ Board (the Board) for its facility in Whitestown, Indiana within FTZ 72. The notification conforming to the requirements of the Board's regulations (15 CFR 400.22) was received on January 9, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: roller chains; articulated link chains; roller chain links; stainless steel spacers; steel buckets; steel paddles; steel slats; steel bushings; steel retainer blocks; steel spindles; steel bars; steel collars; steel cylinder caps; steel pins; steel couplers; steel pivot shafts; steel sprockets; and, steel shafts (duty-free).

The proposed foreign-status materials/components include: grease lubrication; oil lubrication; plastic caps used to provide surface in flat top roller chain; plastic caps used in conveyor chain assemblies; rubber paddles; wooden reels; stainless steel rods; stainless steel round bars; steel roller chains; steel engineered class chains; steel articulated link chains; steel roller chain links; steel welded link chains; steel threaded bolts; steel threaded nuts; steel washers; steel spacers steel cotter pins; steel tweezers; steel spindles; steel bar; steel collars; steel cylinder caps; steel pins; steel couplers; steel bushings; steel pivot shafts; mechanical chain cutters; mechanical crimping tools; steel buckets used with engineered class chains for mining industry; steel slats used with engineered class chains for mining industry; steel shafts; steel transmission shafts; structural steel support shafts; steel feeder slats; ductile iron feeder slats; hydraulic crimping tools; steel sprockets; steel gears; roller bearings; slip clutches; ductile iron slats; and, steel snap rings (duty rate ranges from duty-free to 10.7%). The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41). The request also indicates that tapered roller bearings, geogrids of plastics and rubber, stainless steel bar, and aluminum extrusions are subject to an antidumping/countervailing duty (AD/CVD) order/investigation if imported from certain countries. The Board's regulations (15 CFR 400.13(c)(2)) require that merchandise subject to AD/CVD orders, or items which would be otherwise subject to suspension of liquidation under AD/CVD procedures if they entered U.S. customs territory, be admitted to the zone in privileged foreign status (19 CFR 146.41).

Public comment is invited from interested parties. Submissions shall be addressed to the Board's Executive Secretary and sent to: ftz@trade.gov. The closing period for their receipt is February 24, 2026.

A copy of the notification will be available for public inspection in the “Online FTZ Information System” section of the Board's website.

For further information, contact Brian Warnes at brian.warnes@trade.gov.

Dated: January 13, 2026.
Elizabeth Whiteman,
Executive Secretary.

[FR Doc. 2026-00737 Filed 1-14-26; 8:45 am]

BILLING CODE 3510-DS-P